DEPARTMENT OF VETERANS AFFAIRS

Veterans' Advisory Committee on Education; Notice of Meeting

The Department of Veterans Affairs (VA) gives notice under Pub. L. 92-463 (Federal Advisory Committee Act) that the Veterans' Advisory Committee on Education will meet on Thursday, March 3, 2005, from 8:30 a.m. to 4 p.m.; and Friday, March 4, 2005, from 8:30 a.m. to 12 p.m. The meeting will be held in Room 340, Cannon House Office Building, Washington, DC. The meeting is open to the public.

The purpose of the Committee is to advise the Secretary of Veterans Affairs on the administration of education and training programs for veterans and servicepersons, reservists and dependents of veterans under Chapters 30, 32, 35, and 36 of Tile 38, and Chapter 1606 of Title 10, United States Code.

On March 3, the meeting will begin with an overview by Mr. James Bombard, Committee Chair. In addition, this session will include discussions on proposed and new legislation, a total force GI Bill, a California sheriffs issue, Veterans Education and Training Service, an update on VA-ONCE, and the results of the committee stakeholder engagement survey. On March 4, the Committee will review and summarize issues addressed during this meeting.

Interested persons may submit written statements to the Committee before the meeting, or within 10 days after the meeting, with Mrs. Judith B. Timko, Designated Federal Officer, Department of Veterans Affairs, Veterans Benefits Administration (225B), 810 Vermont Avenue, NW., Washington, DC 20420. Oral statements will be heard on Friday, March 4, 2005, at 9:15 a.m. Any member of the public wishing to attend the meeting should contact Mrs. Judith B. Timko or Mr. Michael Yunker at (202) 273-7187.

Dated: February 10, 2005.
By Direction of the Secretary:
E. Philip Riggin,
Committee Management Officer.

[FR Doc. 05-3496 Filed 2-23-05; 8:45 am]

BILLING CODE 8320-01-M